DEPARTMENT OF JUSTICE

Notice of Lodging of Amended Consent Decree Under the Clean Water Act (CWA)

In accordance with Departmental policy, 28 CFR 50.7, notice is hereby given that on November 20, 2008, a proposed Amended Consent Decree in United States and Commonwealth of Kentucky v. the Louisville and Jefferson County Metropolitan Sewer District (MSD) Civil Action No. 3:08-CV-0068-CRS, was lodged with the United States District Court for the Western District of Kentucky, Louisville Division.

The Amended Consent Decree represents the settlement of claims brought by the United States and Commonwealth pursuant to the Clean Water Act (CWA). The complaint contained claims seeking injunctive relief and the recovery of a civil penalty in connection with wastewater treatment facilities owned and operated by MSD. The Amended Consent Decree, which incorporates, amends and supercedes the previous Consent Decree entered by the Court on August 12, 2005, requires MSD to undertake action necessary to achieve compliance with its National Pollution Discharge Elimination System (NPDES) permits, eliminate bypasses, conduct comprehensively monitoring and reporting with respect to its sewer operations, and pay a penalty of $230,000. The Amended Consent Decree also requires MSD to undertake a stream restoration project, as a Supplemental Environmental Project.

The Department of Justice will receive for a period of thirty (30) days from the date of this publication comments relating to the Amended Consent Decree. Comments should be addressed to the Assistant Attorney General, Environment and Natural Resources Division, and either e-mailed to pubcomment-ees.enrd@usdoj.gov or mailed to P.O. Box 7611, U.S. Department of Justice, Washington, DC 20044-7611, and should refer to United States and Commonwealth of Kentucky v. The Louisville and Jefferson County Sewer District, DOJ # 90-5-1-1-08254/1. The Amended Consent Decree may be examined at U.S. EPA Region 4, Atlanta Federal Center, 61 Forsyth Street, Atlanta, Georgia 30303. During the public comment period, the Amended Consent Decree, may also be examined on the following Department of Justice Web site, http://www.usdoj.gov/enrd/Consent_Decrees.html. A copy of the Amended Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Amended Consent Decree Library, please enclose a check in the amount of $23.50 (for the Consent Decree only and $90.75 for the Amended Consent Decree and all exhibits thereto) (25 cents per page reproduction cost) payable to the U.S. Treasury or, if by e-mail or fax, forward a check in that amount to the Consent Decree Library at the stated address.

Henry Friedman,
Assistant Section Chief, Environmental Enforcement Section, Environment and Natural Resources Division.

[FR Doc. E8-28383 Filed 11-28-08; 8:45 am]

BILLING CODE 4410-15-P